DEPARTMENT OF STATE

[Public Notice 8492]

U.S. National Commission for UNESCO; Notice of Teleconference Meeting

The U.S. National Commission for UNESCO will hold a conference call on Thursday, October 17, 2013, from 11:00 a.m. until 12:00 p.m. Eastern Time. The purpose of the teleconference meeting is to consider the recommendations of the Commission's National Committee for the International Hydrological Programme (IHP). The call will also be an opportunity to provide an update on recent and upcoming Commission and UNESCO activities. The Commission will accept brief oral comments during a portion of this conference call. The public comment period will be limited to approximately 10 minutes in total, with two minutes allowed per speaker. For more information or to arrange to participate in the conference call, individuals must make arrangements with the Executive Director of the National Commission by October 15.

The National Commission, Washington, DC 20037 may be contacted via email DCUNESCO@state.gov or Telephone (202) 663-0026; Fax (202) 663-0035. The Web site can be accessed at: http://www.state.gov/p/io/unesco/.

Dated: September 24, 2013.
Allison Wright,
Executive Director, U.S. National Commission for UNESCO, Department of State.

[FR Doc. 2013-24111 Filed 10-1-13; 8:45 am]

BILLING CODE 4710-19-P